DEPARTMENT OF EDUCATION

Applications for New Awards; Investing in Innovation Fund, Validation Grants

Correction

In notice document 2012-7365 appearing on pages 18229-18242 in the issue of Tuesday, March 27, 2012 make the following corrections:

1. On page 18238 in the second column, in the second bulleted paragraph, in the sixth line “4:30 p.m.” should read “4:30:00 p.m.”

2. On page 18238 in the second column, in the second bulleted paragraph, in the twelfth line “4:30 p.m.” should read “4:30:00 p.m.”

3. On page 18238 in the second column, in the second bulleted paragraph, in the twenty-first line “4:30 p.m.” should read “4:30:00 p.m.”

4. On page 18238 in the third column, in the sixth paragraph, in the sixth line “4:30 p.m.” should read “4:30:00 p.m.”

5. On page 18238 in the third column, in the seventh paragraph, in the first line “4:30 p.m.” should read “4:30:00 p.m.”

6. On page 18239, in the second column, in the fourth paragraph from the bottom of the page, in the third line “4:30 p.m.” should read “4:30:00 p.m.”

[FR Doc. C1-2012-7365 Filed 4-26-12; 8:45 am]

BILLING CODE 1505-01-D